DEPARTMENT OF THE INTERIOR

National Park Service

[NPS-WASO-NRNHL-DTS#-34183; PPWOCRADI0, PCU00RP14.R50000]

National Register of Historic Places; Notification of Pending Nominations and Related Actions

AGENCY: National Park Service, Interior.

ACTION: Notice.

SUMMARY: The National Park Service is soliciting electronic comments on the significance of properties nominated before July 2, 2022, for listing or related actions in the National Register of Historic Places.

DATES: Comments should be submitted electronically by August 1, 2022.

ADDRESSES: Comments are encouraged to be submitted electronically to National_Register_Submissions@nps.gov with the subject line “Public Comment on property or proposed district name, (County) State.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 2, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

FLORIDA

Duval County

Tookes, Bishop Henry Y., House, 1011 West 8th St., Jacksonville, SG100007980

Miami-Dade County

North Beach Bandshell, 7275 Collins Ave., Miami Beach, SG100007981

ILLINOIS

Cook County

Chicago Vocational School, 2100 East 87th St., Chicago, SG100007996

Cornelia, The, 3500 North Lake Shore Dr., Chicago, SG100007997

James E. Plew Building, (Motor Row, Chicago, Illinois MPS), 2635-2645 South Wabash Ave., Chicago, MP100007999

Jo Daviess County

Bishop's Busy Big Store-Lyric Opera House, 137 North Main St., Elizabeth, SG100008001

Kane County

Crego, George M., Farm, 3S854 Finley Rd., Sugar Grove vicinity, SG100007994

Kendall County

Downtown Oswego Historic District, Roughly bounded by one-half blk. north of Jackson St., the alleys immediately west and east of Main St., and one-half block south of Washington St., Oswego vicinity, SG100007995

Lake County

Libertyville Town Hall, 715 North Milwaukee Ave., Libertyville, SG100007992

Ogle County

Mount Morris Downtown Historic District, Wesley Ave., West Main St., South Seminary Ave., Center St., Mount Morris, SG100007993

NEW JERSEY

Hudson County

Excelsior Engine Co. No. 2 Firehouse-Exempt Firemen Association Headquarters, 6106 Polk St., West New York, SG100007991

NEW YORK

Erie County

Buffalo Public School #32-PS 32, 342 Clinton St., Buffalo, SG100008002

Herkimer County

H.M. Quackenbush Factory, 220 North Prospect St., Herkimer, SG100008003

TEXAS

Cameron County

Rio Grande Valley Gas Company Building, 355 West Elizabeth St., Brownsville, SG100007983

WISCONSIN

Douglas County

Thompson, A.D., Cabin, 13393 South St. Croix Rd., Gordon, SG100007979

Eau Claire County

Soo Line Railroad Bridge, Spans the Eau Claire R. between Galloway and Gibson Sts., Eau Claire, SG100007982

Green County

Wilhelm Tell Schuetzen Haus and Park, N8745 Cty. Rd. O, New Glarus, SG100007989

Kewaunee County

Kewaunee Pierhead Lighthouse, (Light Stations of the United States MPS), In L. Michigan at east end of south pier at Kewaunee R. mouth, 0.5 mi east of WI 42, Kewaunee, MP100007998

Additional documentation has been received for the following resources:

TENNESSEE

Blount County

Yearout, Isaac, House, (Blount County MPS), Big Springs Rd., 0.3 mi. north of Morganton Rd., Alcoa vicinity, AD89000920

Hardeman County

Allen-White School (Additional Documentation), 100 Allen Extension St., Whiteville, AD05001214

Knox County

Christenberry Club Room (Additional Documentation), (Knoxville and Knox County MPS), Jct. of Henegar and Shamrock Aves., southwest corner, Knoxville, AD97000242

Nominations submitted by Federal Preservation Officers:

The State Historic Preservation Officer reviewed the following nominations and responded to the Federal Preservation Officer within 45 days of receipt of the nominations and supports listing the properties in the National Register of Historic Places.

COLORADO

Larimer County

Buckhorn Ranger Station Historic District, Fire Route 133, Arapaho and Roosevelt National Forests, Bellvue, SG100007990

IDAHO

Adams County

Indian Mountain Fire Lookout, NF Rd. 243, 12 mi. southeast of Council, Council vicinity, SG100007977

MASSACHUSETTS

Plymouth County

Brockton VA Hospital Historic District, (United States Third Generation Veterans Hospitals, 1946-1958 MPS), 940 Belmont St., Brockton, MP100008004

Authority: Section 60.13 of 36 CFR part 60.

Dated: July 6, 2022.
Sherry A. Frear,
Chief, National Register of Historic Places/National Historic Landmarks Program.

[FR Doc. 2022-15147 Filed 7-14-22; 8:45 am]

BILLING CODE 4312-52-P